DEPARTMENT OF COMMERCE

National Oceanic and Atmospheric Administration

[I.D. 042605C]

New England Fishery Management Council; Public Meetings

AGENCY: National Marine Fisheries Service (NMFS), National Oceanic and Atmospheric Administration (NOAA), Commerce.

ACTION: Notice; public meetings.

SUMMARY: The New England Fishery Management Council (Council) is scheduling public meetings of its Recreational Fishing; Herring; Scallop; Joint Groundfish/Monkfish and Joint Red Crab, Skates and Whiting Advisory Panels in May 2005, to consider actions affecting New England fisheries in the exclusive economic zone (EEZ). Recommendations from these groups will be brought to the full Council for formal consideration and action, if appropriate.

DATES: The meetings will be held on May 16; May 19; May 23; May 25 and May 26, 2005. See SUPPLEMENTARY INFORMATION for specific dates and times.

ADDRESSES: The meetings will be held in Peabody, MA; Mansfield, MA; Portsmouth, NH and Fairhaven, MA. See SUPPLEMENTARY INFORMATION for specific locations.

FOR FURTHER INFORMATION CONTACT: Paul J. Howard, Executive Director, New England Fishery Management Council (978) 465-0492. Requests for special accommodations should be addressed to the New England Fishery Management Council, 50 Water Street, Mill 2, Newburyport, MA 01950; telephone: (978) 465-0492.

SUPPLEMENTARY INFORMATION: Monday, May 16, 2005 at 9:30 a.m.—Recreational Fishing Advisory Panel Meeting.

Location: Holiday Inn, One Newbury Street, Peabody, MA 01960; telephone: (978) 535-4600.

Thursday, May 19, 2005 at 9:30 a.m.—Joint Red Crab, Skates and Whiting Fishing Advisory Panel Meeting.

Location: Holiday Inn, 31 Hampshire Street, Mansfield, MA 02048; telephone: (508) 339-2200.

Monday, May 23, 2005 at 9:30 a.m.—Herring Fishing Advisory Panel Meeting.

Location: Best Western Wynwood Hotel, 580 U.S. Highway 1 Bypass, Portsmouth, NH 03801; telephone: (603) 436-7600.

Wednesday, May 25, 2005 at 9:30 a.m.—Scallop Fishing Advisory Panel Meeting.

Location: Hampton Inn, One Hampton Way, Fairhaven, MA 02719; telephone: (508) 990-8500.

Thursday, May 26, 2005 at 9:30 a.m.—Joint Groundfish and Monkfish Fishing Advisory Panel Meeting.

Location: Holiday Inn, One Newbury Street, Peabody, MA 01960; telephone: (978) 535-4600.

Each Advisory Panel will discuss, comment on and make recommendations concerning a draft conservation and management policy which would guide Council decision-making as it addresses conservation and fairness in all future management challenges. Other business may be discussed as needed.

Although non-emergency issues not contained in this agenda may come before this group for discussion, those issues may not be the subject of formal action during this meeting. Action will be restricted to those issues specifically listed in this notice and any issues arising after publication of this notice that require emergency action under section 305(c) of the Magnuson-Stevens Act, provided the public has been notified of the Council's intent to take final action to address the emergency.

Special Accommodations

These meetings are physically accessible to people with disabilities. Requests for sign language interpretation or other auxiliary aids should be directed to Paul J. Howard (see ADDRESSES) at least 5 days prior to the meeting dates.

Dated: April 26, 2005.
Tracey L. Thompson,
Acting Director, Office of Sustainable Fisheries, National Marine Fisheries Service.

[FR Doc. E5-2061 Filed 4-29-05; 8:45 am]

BILLING CODE 3510-22-S